DEPARTMENT OF COMMERCE

National Oceanic and Atmospheric Administration

RIN 0648-XV055

North Pacific Fishery Management Council; Public Meeting

AGENCY: National Marine Fisheries Service (NMFS), National Oceanic and Atmospheric Administration (NOAA), Commerce.

ACTION: Notice of public meetings.

SUMMARY: The North Pacific Fishery Management Council (Council) and its advisory committees will meet September 30, 2019 through October 9, 2019.

DATES: The meetings will be held September 30, 2019 through October 9, 2019. See SUPPLEMENTARY INFORMATION for specific dates and times.

ADDRESSES: The Council, the SSC, and the Community Engagement Committee will be held at the Land's End Resort, 4786 Homer Spit Rd., Homer, AK 99603. The AP and the Cook Inlet Salmon Committee will meet at the Best Western Bidarka Inn, 575 Sterling Hwy., Homer, AK 99603.

Council address: North Pacific Fishery Management Council, 605 W 4th Ave., Suite 306, Anchorage, AK 99501-2252; telephone (907) 271-2809.

FOR FURTHER INFORMATION CONTACT: Diana Evans, Council staff; telephone: (907) 271-2809.

SUPPLEMENTARY INFORMATION: The Council will begin its plenary session at 8 a.m. in the Quarter Deck Room, Land's End Resort on Thursday, October 3, 2019 continuing through Wednesday, October 9, 2019. The Council's Scientific and Statistical Committee (SSC) will begin at 8 a.m. in the Quarter Deck Room, Land's End Resort on Monday, September 30, 2019 and continue through Wednesday, October 2, 2019. The Council's Advisory Panel (AP) will begin at 8 a.m. in the Williwaw room, Best Western Bidarka Inn on Tuesday, October 1, 2019 and continue through Saturday, October 5, 2019. The Cook Inlet Salmon Committee will meet on Monday, September 30, 2019, from 9 a.m. to 5 p.m., in the Williwaw Room at the Best Western Bidarka Inn. The Salmon Outreach meeting will meet on Monday, September 30, 2019, from 5:30 p.m. to 7 p.m., in the Williwaw Room at the Best Western Bidarka Inn.

The Community Engagement Committee will meet on Tuesday, October 1, 2019, from 8 a.m. to 5 p.m., in the Harbor Room at the Land's End Resort. The Introduction to the Council Process seminar will be held on Tuesday, October 1, 2019, from 5:30 p.m. to 7 p.m., (Room TBD).

Agenda

Monday, September 30, 2019 Through Wednesday, October 9, 2019

Council Plenary Session: The agenda for the Council's plenary session will include the following issues. The Council may take appropriate action on any of the issues identified.

(1) Executive Director's Report (including updates on the State Mariculture Taskforce, Gulf Watch Alaska, and the 2019 decksorting EFP)

(2) NMFS Management Report

(3) NOAA GC Report

(4) AFSC Report

(5) ADF&G Report

(6) USCG Report

(7) USFWS Report

(8) BSAI Halibut ABM PSC Limits—Initial Review

(9) Observer Fee Analysis—Final Action

(10) Observer 2020 Annual Deployment Plan—Review

(11) BSAI Crab: (a) ABC/OFL for 5 stocks; (b) Final 2018-19 SAFE report; (c) Crab Plan Team Report

(12) BSAI Groundfish—Proposed Harvest Specifications

(13) GOA Groundfish—Proposed Harvest Specifications

(14) Sculpins to Ecosystem Components—Final Action

(15) BSAI Parallel Waters—Initial Review

(16) Trawl EM

(17) BSAI Pcod Trawl/Pot CV Management

(18) Stranded BSAI and GOA Pcod—Discussion Paper

(19) BSAI Pcod Pot CPT Participation—Discussion Paper

(20) Cook Inlet Salmon FMP

(21) Staff Tasking

The Advisory Panel will address Council agenda items (8-21).

The SSC agenda will include the following issues:

(1) AFSC Report

(2) BSAI Halibut ABM PSC Limits—Initial Review

(3) Observer 2020 Annual Deployment Plan—Review

(4) BSAI Crab: (a) ABC/OFL for 5 stocks; (b) Final 2018-19 SAFE report; (c) Crab Plan Team Report

(5) BSAI Groundfish—Proposed Harvest Specifications

(6) GOA Groundfish—Proposed Harvest Specifications

(7) BSAI Parallel Waters—Initial Review

(8) Trawl EM

In addition to providing ongoing scientific advice for fishery management decisions, the SSC functions as the Council's primary peer review panel for scientific information, as described by the Magnuson-Stevens Act section 302(g)(1)(e), and the National Standard 2 guidelines (78 FR 43066). The peer review process is also deemed to satisfy the requirements of the Information Quality Act, including the OMB Peer Review Bulletin guidelines.

The Cook Inlet Salmon Committee will review a draft outline for the description of human communities potentially affected by the FMP amendment, as well as management measure recommendations on reporting and monitoring requirements. The Committee will also review the timeline for completion of the amendment and new business, as needed. The Salmon Outreach event is intended to provide stakeholders and the general public with an overview of the issues involved in Council management of salmon fishing in federal waters of Cook Inlet. The Community Engagement Committee will review existing Council engagement strategies and practices to develop recommendations to improve Council engagement with rural and Alaska Native communities, review progress on CEC recommendations, NMFS Tribal Consultation and coordination efforts, and begin the process of developing recommendations for tools and methods for the Council to engage rural communities. The Council's “Introduction to the Council Process” seminar will provide information to the public on the Council process, how they can effectively patriciate in the process, and provide an opportunity for them to ask questions of the staff.

The Agendas are subject to change, and the latest versions will be posted at meetings.npfmc.org/Meeting/Details/823.

Public Comment

Public comment letters will be accepted and should be submitted either electronically at: meetings.npfmc.org/Meeting/Details/823 or through the mail: North Pacific Fishery Management Council, 605 W 4th Ave., Suite 306, Anchorage, AK 99501-2252. Deadline for comments is September 27, 2019, at 12 p.m.

Special Accommodations

These meetings are physically accessible to people with disabilities. Requests for sign language interpretation or other auxiliary aids should be directed to Shannon Gleason at (907) 271-2809 at least 7 working days prior to the meeting date.

Authority: 16 U.S.C. 1801 et seq.

Dated: September 4, 2019.
Tracey L. Thompson,
Acting Deputy Director, Office of Sustainable Fisheries, National Marine Fisheries Service.

[FR Doc. 2019-19382 Filed 9-6-19; 8:45 am]

BILLING CODE 3510-22-P